DEPARTMENT OF COMMERCE

International Trade Administration

[A-560-823]

Coated Paper Suitable for High-Quality Print Graphics Using Sheet-Fed Presses From Indonesia: Rescission of Antidumping Duty Administrative Review; 2019-2020

AGENCY: Enforcement and Compliance, International Trade Administration, United States Department of Commerce.

SUMMARY: The Department of Commerce (Commerce) is rescinding the administrative review of the antidumping duty (AD) order on coated paper suitable for high-quality print graphics using sheet-fed presses (coated paper) from Indonesia for the period of review (POR) November 1, 2019, through October 31, 2020, based on the timely withdrawal of the request for review.

DATES: Applicable April 29, 2021.

FOR FURTHER INFORMATION CONTACT: Rebecca Janz, AD/CVD Operations, Office II, Enforcement and Compliance, International Trade Administration, U.S. Department of Commerce, 1401 Constitution Avenue NW, Washington, DC 20230; telephone: (202) 482-2972.

SUPPLEMENTARY INFORMATION:

Background

On November 3, 2020, Commerce published a notice of opportunity to request an administrative review of the AD duty order on coated paper from Indonesia for the POR.¹ On November 30, 2020, Verso Corporation (Verso) timely requested an administrative review of the AD order with respect to three companies: PT. Pindo Deli Pulp and Paper Mills, PT. Pabrik Kertas Tjiwi Kimia Tbk, and PT Indah Kiat Pulp & Paper Tbk.² On January 6, 2021, in accordance with section 751(a) of the Tariff Act of 1930, as amended (the Act), and 19 CFR 351.221(c)(1)(i), Commerce initiated an administrative review of the AD order for the POR with respect to these three companies.³ On March 26, 2021, Verso timely withdrew its request for review for all three companies.⁴

¹ See Antidumping or Countervailing Duty Order, Finding, or Suspended Investigation; Opportunity to Request Administrative Review, 85 FR 69586 (November 3, 2020).

² See Verso's Letter, “Administrative Review of the Antidumping Duty Order on Certain Coated Paper Suitable for High-Quality Print Graphics Using Sheet-Fed Presses from Indonesia (11/01/19-10/31/20),” dated November 30, 2020.

³ See Initiation of Antidumping and Countervailing Duty Administrative Reviews, 86 FR 511 (January 6, 2021).

⁴ See Verso's Letter, “Certain Coated Paper Suitable for High-Quality Print Graphics Using Sheet-Fed Presses from Indonesia: Withdrawal of Request for Administrative Review,” dated March 26, 2021.

Rescission of Review

Pursuant to 19 CFR 351.213(d)(1), Commerce will rescind an administrative review, in whole or in part, if the parties that requested the review withdraw their requests within 90 days of the publication date of the notice of initiation of the requested review. Verso withdrew its request for review for all three companies within 90 days of the publication of the Initiation Notice, and no other party requested an administrative review of the AD order for the POR. Therefore, in accordance with 19 CFR 351.213(d)(1), Commerce is rescinding the administrative review of the AD order on coated paper from Indonesia for the POR in its entirety.

Assessment

Commerce will instruct U.S. Customs and Border Protection (CBP) to assess antidumping duties on all appropriate entries of coated paper from Indonesia during the POR at rates equal to the cash deposit rates for estimated antidumping duties that were required at the time of entry, or withdrawal from warehouse, for consumption, in accordance with 19 CFR 351.212(c)(1)(i). Commerce intends to issue appropriate assessment instructions to CBP no earlier than 35 days after the date of publication of this rescission notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: April 23, 2021.
James Maeder,
Deputy Assistant Secretary for Antidumping and Countervailing Duty Operations.

[FR Doc. 2021-08920 Filed 4-28-21; 8:45 am]

BILLING CODE 3510-DS-P